DEPARTMENT OF ENERGY

Federal Energy Regulatory Commission

[Project No. 77-110]

Pacific Gas and Electric Company; Notice of Filing and Requesting Comments

December 31, 2002.

On November 29, 2002, the National Marine Fisheries Service (NMFS) filed with the Commission its final biological opinion for a proposed license amendment for the Potter Valley Project (PVP; FERC No. 77-110). The proposed amendment involves changes in the minimum flow release requirements at the project, consisting of increased releases to the Eel River, which would result in overall decreased diversions to the Russian River. The PVP is licensed to Pacific Gas and Electric Company (PG&E) and is located in Lake and Mendocino counties, California.

The NMFS biological opinion finds that the proposed increase in minimum flow releases to the Eel River is likely to jeopardize the continued existence of southern Oregon/northern California coho salmon, California coastal chinook salmon, and California steelhead and likely to adversely modify designated critical habitat in the Eel River Basin. With respect to salmonids in the Russian River, it is the NMFS' biological opinion that the proposed action is not likely to jeopardize listed species or adversely modify designated critical habitat. The biological opinion includes a “Reasonable and Prudent Alternative,” which the NMFS believes should avoid jeopardy to listed species.

The purpose of this notice is to request comments on the NMFS biological opinion, including its “Reasonable and Prudent Alternative.” Copies of the biological opinion are available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659.

Comments on the biological opinion should be filed with the Commission within 30 days from the issuance date of this notice.

All documents (original and eight copies) should be filed with: Magalie R. Salas, Secretary, Federal Energy Regulatory Commission, 888 First Street, NE., Washington, DC 20426. The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene and protests may be filed electronically via the Internet in lieu of paper. The Commission strongly encourages electronic filings. See 18 CFR 385.2001(a)(1)(iii) and the instructions on the Commission's Web site (http://www.ferc.gov) under the “e-Filing” link.

For additional information concerning the foregoing, please contact John Mudre at (202) 502-8902.

Comments due: January 30, 2003.

Linwood A. Watson, Jr.,
Deputy Secretary.

[FR Doc. 03-233 Filed 1-3-03; 8:45 am]

BILLING CODE 6717-01-P